DEPARTMENT OF TRANSPORTATION

National Highway Traffic Safety Administration

[Docket No. NHTSA-2026-0067]

Agency Information Collection Activities; Notice and Request for Comment; 49 CFR Part 575—Consumer Information Regulations (Sections 103 and 105)

AGENCY: National Highway Traffic Safety Administration (NHTSA), Department of Transportation (DOT).

ACTION: Notice and request for comments on a request for reinstatement of a previously approved information collection.

SUMMARY: NHTSA invites public comments about our intention to request approval from the Office of Management and Budget (OMB) to reinstate a previously approved information collection. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval.

DATES: Comments must be submitted on or before March 23, 2026.

ADDRESSES: You may submit comments identified by the Docket No. NHTSA-2026-0067 through any of the following methods:

• Electronic submissions: Go to the Federal eRulemaking Portal at http://www.regulations.gov. Follow the online instructions for submitting comments.

• Fax: (202) 493-2251.

Mail or Hand Delivery: Docket Management, U.S. Department of Transportation, 1200 New Jersey Avenue SE, West Building, Room W12-140, Washington, DC 20590, between 9 a.m. and 5 p.m., Monday through Friday, except on Federal holidays. Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact. Walter Lysenko, Office of International Policy, Fuel Economy and Consumer Programs, NHTSA, West Building, W43-301, NRM-310, 1200 New Jersey Avenue SE, Washington, DC 20590. Please identify the relevant collection of information by referring to its OMB Control Number.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g. permitting electronic submission of responses. In compliance with these requirements, NHTSA asks for public comments on the following proposed collection of information for which the agency is seeking approval from OMB.

Title: 49 CFR part 575—Consumer Information Regulations (Sections 103 and 105).

OMB Control Number: NHTSA-2127-0049.

Form Number(s): N/A.

Type of Request: Request for approval to reinstate a previously approved information collection.

Type of Review Requested: Regular.

Requested Expiration Date of Approval: Three years from date of approval.

Summary of the Collection of Information: This information collection pertains to 49 CFR part 575. Part 575.103, “Truck-camper loading,” requires manufacturers of light trucks that are capable of accommodating slide-in campers to provide information on the cargo weight rating and the longitudinal limits within which the center of gravity for the cargo weight rating should be located. Section 103 also requires manufacturers of slide-in campers to affix to each camper a label that contains information relating to identification and proper loading of the camper and to provide more detailed loading information in the owner's manual. 49 CFR part 575.105, “Vehicle rollover,” requires manufacturers of certain utility vehicles to affix a label in a prominent location alerting drivers that the handling and maneuvering characteristics of utility vehicles require special driving practices when these vehicles are operated. Also, as required by 49 CFR part 575.6(d)(1)(i), vehicle manufacturers must submit to NHTSA's Administrator, prior to new model introduction, two copies of the information specified in Part 575.103 and Part 575.105 that is applicable to the vehicles offered for sale. The information must be submitted at least 90 days before information on such vehicles is first provided for examination by prospective purchasers.

Description of the Need for the Information and Proposed Use of the Information: 49 U.S.C. 30117 (a) specifies that the Secretary of Transportation may require that each manufacturer of a motor vehicle or motor vehicle equipment provide technical information related to performance and safety required to carry out this chapter. This section further authorizes the Secretary to require manufacturers to notify first purchasers and prospective purchasers of these data.

To carry out this statutory directive, the agency promulgated 49 CFR part 575, Consumer Information Regulations. The regulation requires manufacturers to provide performance and safety information to their dealers who will distribute this information to potential first purchasers of new vehicles. These manufacturers also furnish the agency with copies. Every manufacturer of motor vehicles and motor vehicle equipment must provide NHTSA with performance and safety information and technical data to comply with the following:

• Truck-camper loading (information about trucks that can accommodate slide-in campers) (Section 575.103).

• Vehicle rollover (information about handling and maneuvering characteristics of utility vehicles) (Section 575.105).

Affected Public: Motor vehicle manufacturers.

Estimated Number of Respondents: 35 (18 utility vehicle and truck manufacturers and 17 slide-in camper manufacturers).

Estimated Number of Responses: The agency estimates 15 responses annually.

NHTSA estimates there are currently 17 slide-in camper manufacturers, 7 manufacturers of trucks capable of accommodating slide-in campers, and 18 utility vehicle manufacturers subject to Part 575.103 and 575.105. Because of overlap, the total number of distinct respondents is estimated at 35. Based on prior years' experience, NHTSA estimates that approximately 15 submissions will be received annually. Of these, about 12 will be associated with the introduction of new model vehicles and about 3 will be revisions to previously submitted information. Manufacturers submit only when they introduce a new model or change previously provided information.

Frequency: As needed.

Estimated Total Annual Burden Hours: 300 hours per year.

The light truck manufacturers gather only pre-existing data for the purposes of this regulation. The agency estimates light truck manufacturers use a total of 135 hours (about nine hours per manufacturer) to gather and arrange data in proper format.

Light truck manufacturers' significant burden is printing and distributing copies of this consumer information to their dealers and attaching the labels to light trucks that are capable of accommodating slide-in campers. The agency estimates about 800,000 copies of this information will be printed. Although most high-speed printing methods are fast, we assume a total burden of 60 hours (four hours per manufacturer) to print this information.

The final step is to estimate the burden to print the truck-camper labels and utility vehicle information in the owner's manual or on a separate document included with the owner's manual. Since this information is listed in the owner's manual, NHTSA estimates 105 hours (seven hours per manufacturer) are spent printing the consumer information in the owner's manual. OMB approved the owner's manual information collection under a separate request (approval OMB Control Number 2127-0541).

The estimated annual burden is 300 hours. This number is derived from multiplying total responses (15) by the total burden hours per manufacturer (20 hrs).

Estimated Total Annual Burden Cost: $2,137,418.

The burden estimates are based on the number of light trucks and utility vehicles produced annually that require labeling under §§ 575.103 and 575.105, and the number of manufacturer submissions made to NHTSA. Submissions require approximately 20 hours each from professional and clerical staff, estimated at $58.12/hour. Affixing labels requires an average of 18 seconds per vehicle (0.005 hours), at an average labor rate of $23.95/hour. Printing costs were calculated at $0.35 per label.

Applying these values, the annual costs include:

Submissions: 300 hours × $58.12/hour = $17,436

Label affixing: 22,565 hours × $23.95/hour = $540,432

Label printing: 4,513,000 × $0.35 = $1,579,550

The combined total annual cost of this information collection is therefore $2,137,418 ($17,436 submissions + $540,432 labeling + $1,579,550 printing).

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29A.

Jane Doherty,
Acting Associate Administrator for Rulemaking.

[FR Doc. 2026-00897 Filed 1-16-26; 8:45 am]

BILLING CODE 4910-59-P